AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington DC 20503. Copies of submission may be obtained by calling (202) 712-5007.

SUPPLEMENTARY INFORMATION:

OMB Number: OMB 0412-XXXX.

Form Number: AID Form 101-1.

Title: Feed the Future Public-Private Partnership Opportunity Explorer.

Type of Submission: New Information Collection.

Purpose: United States Agency for International Development must collect information as part of the Public-Private Partnerships Opportunity Explorer (PPOE). Information collected will be used to respond to initial private-sector interest in a partnership with Feed the Future and provide additional information and contacts regarding partnerships (i.e., how to get the process started if it looks like a good fit or alternative options for partnership). The information will be collected from private-sector organizations that are interested in partnering with the U.S. Government. Responses are voluntary. The information will be collected electronically via an online decision tree and related online form. The form will be collected by the Bureau for Food Security at USAID. The decision tree and form help reduce the transaction costs for initial exploration of a partnership for both the private-sector organization and the U.S. Government. They also provide the initial point of entry for private sector organizations into partnerships with the U.S. Government. Electronic submission ensures the creation of a record. Submissions will be stored within an Excel spreadsheet (database) created for the purpose of archiving these submissions and managed by the Bureau for Food Security at USAID. At a later date, the Bureau for Food Security may use a more formalized system to maintain the records, such as Customer Relationship Management (CRM) software. Electronic record retention will adhere to USAID ADS Chapter 502 regulations USAID (ADS 502.3.4.10) and in cases where a registration of interest turns into a public-private partnership, record retention will adhere to procurement record regulations outlined in USAID ADS 324 (USAID ADS 324.3.7). In rare cases where completing the form via the online tool is impossible, USAID will provide the form in PDF or Word document format for completion and submission via email or fax.

Annual Reporting Burden:

Respondents: 120.

Total annual responses: 120.

Total annual hours requested: 30.

Dated: February 28, 2013.
Alecia Sillah,
Acting Chief, Bureau for Management, Office of Management Services, Information and Records Division, U.S. Agency for International Development.

[FR Doc. 2013-05235 Filed 3-6-13; 8:45 am]

BILLING CODE 6116-01-M